Title 3—

The President

Proclamation 8583 of October 8, 2010

National School Lunch Week, 2010

By the President of the United States of America

A Proclamation

No child should have to learn on an empty stomach. Nearly 65 years ago, America made protecting the health of our children a national priority by developing the National School Lunch Program. This groundbreaking program has prevented hunger and promoted education by enabling our young people to have access to safe, balanced, and affordable meals at school. It has also supported their development, encouraged their learning capacity, and instilled life-long healthy habits. This year, during National School Lunch Week, we recognize the vital importance of this historic program, and we recommit to serving meals that will contribute to the health and well-being of a new generation.

With more than 31 million children participating in the National School Lunch Program and more than 11 million in the School Breakfast Program, good nutrition at school is more vital than ever. When one in three children in this country is overweight or obese, we all have a responsibility to make sure our kids receive good nutrition at school and learn to make healthy choices early in life. This is an essential part of First Lady Michelle Obama’s “Let’s Move!” initiative, which is a nationwide campaign dedicated to ending the epidemic of childhood obesity within a generation so that children can reach adulthood at a healthy weight.

To foster school environments that encourage physical activity and nourishing diets, “Let’s Move!” is partnering with the United States Department of Agriculture (USDA) to increase the number of schools that participate in the HealthierUS School Challenge. The Challenge establishes rigorous standards for nutritional quality in school food, participation in meal programs, physical activity, and nutrition education—all key components that make for healthy, active children.

Chefs across America are also helping create nutritious and appealing school meals. Over 1,900 have volunteered to offer their unique talents and knowledge of food and nutrition to “Chefs Move to Schools,” an initiative that pairs chefs with interested schools in their communities. Together, chefs and school administrators are creating wholesome meals while teaching young people about nutrition and making balanced, healthy choices. I invite all Americans to visit LetsMove.gov to learn more about this initiative and other strategies to raise a healthier generation of kids.

To provide more fruits, vegetables, and other fresh and nutritious foods for school meals, the USDA is also working to develop farm-to-school partnerships with local farmers, States, localities, tribal authorities, school districts, and community organizations. The USDA Farm to School Team is helping to provide quality foods in school menus, to increase markets for local farms, and to teach young people of all ages about the source of the food they enjoy. To enable school cafeterias across our Nation to prepare these healthy foods, the American Recovery and Reinvestment Act funded the purchase of new food service equipment such as salad bars, and the replacement of aging or outdated appliances such as deep fryers.

This week provides us with an opportunity to reflect on the critical role the National School Lunch Program plays in promoting the health and well-being of tomorrow’s leaders. We also recognize the talent and dedication of all the food service professionals, educators, program administrators, and parents whose time and energy help ensure America’s students have the healthy food necessary to grow and succeed.

The Congress, by joint resolution of October 9, 1962 (Public Law 87-780), as amended, has designated the week beginning on the second Sunday in October each year as “National School Lunch Week,” and has requested the President to issue a proclamation in observance of this week.

NOW, THEREFORE, I, BARACK OBAMA, President of the United States of America, do hereby proclaim the week of October 10 through October 16, 2010, as National School Lunch Week. I call upon all Americans to join the dedicated individuals who administer the National School Lunch Program in appropriate activities that support the health and well-being of our Nation’s children.

IN WITNESS WHEREOF, I have hereunto set my hand this eighth day of October, in the year of our Lord two thousand ten, and of the Independence of the United States of America the two hundred and thirty-fifth.

[FR Doc. 2010-26218

Filed 10-14-10; 11:15 am]

Billing code 3195-W1-P